ENVIRONMENTAL PROTECTION AGENCY

[EPA-HQ-OPP-2009-1017; FRL-9914-09]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a May 20, 2014 Federal Register Notice of Receipt of Requests from the registrants listed in Table 2 of Unit II. to voluntarily cancel these product registrations. In the May 20, 2014 Federal Register notice, EPA indicated that it would issue an order implementing the cancellations, unless the Agency received substantive comments within the 30-day comment period that would merit its further review of these requests, or unless the registrants withdrew their requests. The Agency received comments on the May 20, 2014 Federal Register notice but none merited its further review of the requests. Further, the registrants did not withdraw their requests. Accordingly, EPA hereby issues in this notice a cancellation order granting the requested cancellations. Any distribution, sale, or use of the products subject to this cancellation order is permitted only in accordance with the terms of this cancellation order, including any existing stocks provisions.

DATES: The cancellations are effective August 6, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of products registered under FIFRA section 3 (7 U.S.C. 136a). These registrations are listed in sequence by registration number in Table 1 of this unit.

Table 1—Product Cancellations
EPA Registration No. | Product name | Chemical name
000264-00805 | Thiacloprid Technical Insecticide | Thiacloprid
000264-00806 | Calypso 4 Flowable Insecticide | Thiacloprid
000352-00593 | Accent Gold Herbicide | Clopyralid, nicosulfuron, rimsulfuron, and flumetsulam
000352-00612 | DuPont Accent Gold WDG Herbicide | Clopyralid, nicosulfuron, rimsulfuron, and flumetsulam
000352-00792 | DuPont DPX-KJM44 80XP Turf Herbicide | Aminocyclopyrachlor methyl ester
000352-00794 | DuPont DPX-MAT28 50SG Turf Herbicide | Aminocyclopyrachlor
000352-00797 | DuPont DPX-KJM44 0.064G Turf Herbicide + Fertilizer | Aminocyclopyrachlor methyl ester
000352-00800 | DuPont DPX-KJM44 0.073G Lawn Herbicide + Fertilizer | Aminocyclopyrachlor methyl ester
000352-00803 | DuPont DPX-KJM44 0.053G Lawn Herbicide + Fertilizer | Aminocyclopyrachlor methyl ester
000352-00804 | DuPont DPX-KJM44 0.049G Lawn Herbicide + Fertilizer | Aminocyclopyrachlor methyl ester
000352-00807 | DuPont DPX-KJM44 0.033G Lawn Herbicide + Fertilizer | Aminocyclopyrachlor methyl ester
000352-00811 | DuPont DPX-KJM44 0.02G Lawn Herbicide + Fertilizer | Aminocyclopyrachlor methyl ester
000352-00813 | DuPont DPX-MAT28 0.05G Turf Herbicide + Fertilizer | Aminocyclopyrachlor
000352-00814 | DuPont DPX-MAT28 0.03G Turf Herbicide + Fertilizer | Aminocyclopyrachlor
000352-00815 | DuPont DPX-MAT28 0.068G Lawn Herbicide + Fertilizer | Aminocyclopyrachlor
000432-01362 | Premise 0.5 SC | Imidacloprid
000464-00662 | S.S.T. Sump Saver Tablets | 2-(hydroxymethyl)-2-nitro-1,3-propanediol
001270-00255 | Zep Flush 'N Kill DM | S-bioallethrin and deltamethrin
001448-00379 | Busan 2020F | Poly(oxy-1,2-ethanediyl(dimethylimino)-1,2-ethanediyl(dimethylimino)-1,2-ethanediyl dichloride)
001448-00380 | Busan 2020 | Poly(oxy-1,2-ethanediyl(dimethylimino)-1,2-ethanediyl(dimethylimino)-1,2-ethanediyl dichloride)
001448-00396 | WSKT | Poly(oxy-1,2-ethanediyl(dimethylimino)-1,2-ethanediyl(dimethylimino)-1,2-ethanediyl dichloride); 5-chloro-2-methyl-3(2H)-isothiazolone; and 2-methyl-3(2H)-isothiazolone
001448-00397 | Busan 1174 | Poly(oxy-1,2-ethanediyl(dimethylimino)-1,2-ethanediyl(dimethylimino)-1,2-ethanediyl dichloride); 5-chloro-2-methyl-3(2H)-isothiazolone; and 2-methyl-3(2H)-isothiazolone
001448-00400 | PCA 10 | Poly(oxy-1,2-ethanediyl(dimethylimino)-1,2-ethanediyl(dimethylimino)-1,2-ethanediyl dichloride)
008033-00012 | Equinox Herbicide | Tepraloxydim
008033-00013 | BAS 620 H MUP | Tepraloxydim
010163-00279 | Milbemectin Technical Miticide/Insecticide | Milbemectin (A mixture of >=70% milbemycin A4, and <=30% milbemycin A3)
010163-00280 | Ultiflora Miticide/Insecticide | Milbemectin (A mixture of >=70% milbemycin A4, and <=30% milbemycin A3)
028293-00167 | Unicorn Residual House and Carpet Spray | Bioallethrin, MGK 264 and permethrin
028293-00192 | Unicorn House and Carpet Spray #5 | Bioallethrin, MGK 264, piperonyl butoxide, and esfenvalerate
028293-00196 | Unicorn House and Carpet Spray #6 | Bioallethrin, MGK 264, piperonyl butoxide, and esfenvalerate
028293-00332 | Unicorn Flying & Crawling Insect Killer IV | S-bioallethrin and deltamethrin
028293-00334 | Unicorn Flying & Crawling Insect Killer V | S-bioallethrin and deltamethrin
028293-00336 | Unicorn Flying & Crawling Insect Killer III | S-bioallethrin and deltamethrin
054382-00003 | Taktic Emulsifiable Concentrate Miticide/Insecticide | Amitraz
066330-00295 | Iprodione Technical 97.5% | Iprodione
066330-00329 | Iprodione Technical 98% | Iprodione
067071-00053 | Acticide MKW 1 | Octhilinone; carbamic acid; butyl-, 3-iodo-2- propynyl ester; and diuron
070627-00071 | Raid Institutional Flying Insect Killer | d-allethrin, phenothrin, and tetramethrin
071368-00062 | Assert Herbicide | Imazamethabenz
071368-00063 | Assert Herbicide Technical | Imazamethabenz
075630-00001 | Zinc Borate | Zinc borate (3ZnO, 2B03, 3.5H2O; mw 434.66)
083558-00020 | Mepiquat Chloride Technical | Mepiquat chloride
085678-00027 | Iprodione Technical | Iprodione
087290-00014 | Willowood Imidacloprid 4SC | Imidacloprid
087290-00021 | Willowood Imidacloprid 2SC | Imidacloprid
ME030004 | Accord Concentrate | Glyphosate-isopropylammonium
ME980001 | Confirm 2F Insecticide | Tebufenozide

The allethrin series of pyrethroid insecticides includes the Product Chemical (PC) codes for: Bioallethrin (004003), esbiol (004004), esbiothrin (004007, formerly 004003/004004), and pynamin forte (004005). The technical registrants for the allethrins, Sumitomo Chemical Company Limited (Sumitomo) and Valent BioSciences Corporation (Valent), cancelled all of the allethrins technical products effective September 30, 2015, and cancelled their allethrins end-use product registrations effective December 31, 2016. Because the allethrins technical products have been cancelled, several other registrants for allethrins end-use products listed in this notice have requested cancellation with dates consistent with those specified for the Valent and Sumitomo allethrins end-use products. The cancellation of the end-use products listed in Table 2 of this unit are effective December 31, 2016.

Table 2—Product Cancellations for Allethrin End-Use Products Effective December 31, 2016
EPA Registration No. | Product name | Chemical name
000004-00461 | Bonide Crawling Insect Killer | Deltamethrin and S-bioallethrin
000498-00167 | SprayPak Ant & Roach Killer Formula 2 With Esfenvalerate | Bioallethrin, MGK 264, piperonyl butoxide, and esfenvalerate
000498-00192 | Champion Sprayon Flying & Crawling Insect Killer Formula II | S-Bioallethrin and deltamethrin
000499-00362 | Whitmire PT 515 Wasp-Freeze Wasp and Hornet Killer | Bioallethrin and phenothrin
003095-00026 | PIC Mosquito Repellent Coils | d-Allethrin
004822-00283 | Raid House and Garden Bug Killer Formula 7 | d-Allethrin and phenothrin
004822-00284 | Raid Formula 5 Flying Insect Killer | d-Allethrin, piperonyl butoxide, and phenothrin
004822-00469 | Repellent LMO | d-Allethrin
004822-00501 | Snake II | Bioallethrin
004822-00578 | H7A-US | Tetramethrin, phenothrin, and d-allethrin
004822-00580 | H7A-US HG | Tetramethrin, phenothrin, and d-allethrin
006218-00043 | Summit Mistocide-B | S-bioallethrin, MGK 264, and piperonyl butoxide
009688-00256 | Chemsico Aerosol Insecticide DS | S-bioallethrin and deltamethrin
009688-00306 | TAT Roach & Ant With Residual Action 2491 | Bioallethrin, MGK 264, piperonyl butoxide, and esfenvalerate
010807-00437 | Konk Insecticide Foam | Bioallethrin, MGK 264, and permethrin
070385-00004 | Microban X-590 Institutional Spray | Bioallethrin, MGK 264, o-phenylphenol (No inert use), piperonyl butoxide, and benzenemethanaminium, N,N-dimethyl-N-(2-(2-(4-(1,1,3,3-tetramethylbutyl) phenoxy)ethoxy)ethyl)-, chloride

Table 3 of this unit includes the names and addresses of record for all registrants of the products in Table 1 and Table 2 of this unit, in sequence by EPA company number. This number corresponds to the first part of the EPA registration numbers of the products listed in Table 1 of this unit.

Table 3—Registrants of Cancelled Products
EPA Company No. | Company name and address
4 | Bonide Products, Inc. Agent: Registrations By Design, Inc., P.O. Box 1019, Salem, VA 24153-3805
264 | Bayer CropScience LP, 2 T.W. Alexander Dr., P.O. Box 12014, Research Triangle Park, NC 27709
352 | E.I. DuPont De Nemours and Company (S300/419), 1007 Market St., Wilmington, DE 19898-0001
432 | Bayer Environmental Science, A Division of Bayer CropScience LP, 2 T.W. Alexander Dr., P.O. Box 12014, Research Triangle Park, NC 27709
464 | The Dow Chemical Co., Agent: The Dow Chemical Company, 100 Larkin Center, 1650 Joseph Dr., Midland, MI 48674
498 | Chase Products Co., Putting The Best At Your Fingertips, P.O. Box 70, Maywood, IL 60153
499 | Whitmire Micro-Gen Research Laboratories, Inc., Agent: BASF Corporation, 3568 Tree Court Industrial Blvd., St. Louis, MO 63122-6682
1270 | Zep, Inc., 1310 Seaboard Industrial Blvd., Atlanta, GA 30318
1448 | Buckman Laboratories, Inc., 1256 North McLean Blvd., Memphis, TN 38108
3095 | PIC Corporation, Agent: Product & Regulatory Associates, LLC, P.O. Box 1683, Voorhees, NJ 08043-9998
4822 | S.C. Johnson & Son, Inc., 1525 Howe St., Racine, WI 53403
6218 | Summit Chemical Co., Summit Responsible Solutions, 235 S. Kresson St., Baltimore, MD 21224
8033 | Nippon Soda Co., LTD, Agent: Nisso America, Inc., 88 Pine St., 14th Floor, New York, NY 10005
9688 | Chemsico, A Division of United Industries Corp., P.O. Box 142642, St. Louis, MO 63114-0642
10163 | Gowan Co., P.O. Box 5569, Yuma, AZ 85366-5569
10807 | Amrep, Inc., 990 Industrial Park Dr., Marietta, GA 30062
28293 | Phaeton Corp., D/B/A Unicorn Laboratories, Agent: Registrations By Design, Inc., P.O. Box 1019, Salem, VA 24153
54382 | Intervet, Inc., D/B/A Merck Animal Health, 556 Morris Ave., S5-2145A, Summit, NJ 07901
66330 | Arysta LifeScience North America, LLC 15401 Weston Parkway, Suite 150 Cary, NC 27513
67071 | Thor GmbH, Agent: Thor Specialties, Inc., 50 Waterview Dr., Shelton, CT 06484
70385 | ProRestore Products, Agent: Lewis & Harrison, LLC, 122 C St. NW., Suite 505, Washington, DC 20001
70627 | Diversey, Inc., 8310-16th St., MS 707, Sturtevant, WI 53177
71368 | Nufarm, Inc., Agent: Nufarm Americas, Inc., 4020 Aerial Center Parkway, Suite 1013, Morrisville, NC 27560
75630 | Royce Associates, LP, 35 Carlton Ave., East Rutherford, NJ 07073
83558 | Celsius Property B.V., Amsterdam (NL), Neuhausen A. RHF Branch, Agent: Makhteshim Agan of North America, Inc., 3120 Highwoods Blvd., Suite 100, Raleigh, NC 27604
85678 | RedEagle International, LLC, Agent: Wagner Regulatory Associates, Inc., P.O. Box 640, Hockessin, DE 19707-0640
87290 | Willowood, LLC, Agent: Wagner Regulatory Associates, Inc., P.O. Box 640, Hockessin, DE 19707-0640
ME030004, ME980001 | Dow AgroSciences, LLC, 9330 Zionsville Rd., 308/2E Indianapolis, IN 46268-1054

III. Summary of Public Comments Received and Agency Response to Comments

During the public comment period, EPA received three comments. One of the comments received was submitted by the registrant Nippon Soda Co., Ltd. c/o Nisso America, Inc. (Nisso) that explained the importance for maintaining the existing tepraloxydim tolerances for importation purposes through 2018. This request does not pertain to the voluntary cancellation of the registrant's products (008033-00012 and 008033-00013), which have never been marketed in the United States.

The two remaining comments received pertained to pesticide concerns in general. These two comments did not contain information about any specific product cancellation request. For these reasons, the Agency does not believe that the three comments submitted during the comment period, which referenced importation tolerances and general pesticide concerns, merit further review or a denial of the requests for voluntary cancellation.

IV. Cancellation Order

Pursuant to FIFRA section 6(f) (7 U.S.C. 136d(f)), EPA hereby approves the requested cancellations of the registrations identified in Table 1 of Unit II. Accordingly, the Agency hereby orders that the product registrations identified in Table 1 of Unit II. are canceled. The effective date of the cancellations that are the subject of this notice is August 6, 2014. Any distribution, sale, or use of existing stocks of the products identified in Table 1 of Unit II. in a manner inconsistent with any of the provisions for disposition of existing stocks set forth in Unit VI. are a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of May 20, 2014 (79 FR 28920) (FRL-9909-40). The comment period closed on June 19, 2014.

VI. Provisions for Disposition of Existing Stocks

Existing stocks are those stocks of registered pesticide products which are currently in the United States and which were packaged, labeled, and released for shipment prior to the effective date of the cancellation action. The existing stocks provisions for the products subject to this order are as follows.

A. All Products in Table 1 of Unit II. except 000264-00806, 008033-00012, 008033-00013, 054382-00003, 067071-00053, 071368-00062, 087290-00014, 087290-00021)

The registrants may continue to sell and distribute existing stocks of products listed in Table 1 of Unit II. until August 6, 2015, which is 1 year after the publication of this cancellation order in the Federal Register. Thereafter, the registrants are prohibited from selling or distributing products listed in Table 1 of Unit II., except for export in accordance with FIFRA section 17 (7 U.S.C. 136o), or proper disposal. Persons other than the registrants may sell, distribute, or use existing stocks of products listed in Table 1 of Unit II. until existing stocks are exhausted, provided that such sale, distribution, or use is consistent with the terms of the previously approved labeling on, or that accompanied, the canceled products.

B. Product 000264-00806

In a letter to the Agency, the registrant had requested to voluntarily cancel all of its current thiacloprid product and domestic use registrations. In doing so, the registrant requested an 18- month time period to sell and distribute existing stocks of this product. The registrant may continue to sell and distribute existing stocks of product listed in Table 1 of Unit II. until Monday, February 8, 2016, which is 1 year and 6 months after the publication of this cancellation order in the Federal Register. Thereafter, the registrant is prohibited from selling or distributing product listed in Table 1 of Unit II., except for export in accordance with FIFRA section 17, or proper disposal. Persons other than the registrant may sell, distribute, or use existing stocks of product listed in Table 1 of Unit II. until existing stocks are exhausted, provided that such sale, distribution, or use is consistent with the terms of the previously approved labeling on, or that accompanied, the canceled product.

C. Product 071368-00062

The registrant may continue to sell and distribute existing stocks of product containing imazamethabenz listed in Table 1 of Unit II. until December 31, 2015. Thereafter, registrants, and persons other than the registrants, are prohibited from selling or distributing product containing imazamethabenz listed in Table 1 of Unit II., except for export in accordance with FIFRA section 17, or proper disposal. Existing stocks of product containing imazamethabenz already in the hands of users can be used legally until such existing stocks are exhausted, provided that such sale, distribution, or use is consistent with the terms of the previously approved labeling on, or that accompanied, the canceled product.

D. Products 008033-00012, 008033-00013, 054382-00003, 067071-00053, 087290-00014 and 087290-00021

Registrants have indicated to the Agency via letter and/or written response that due to the last manufacturing date, distribution date, or the absence of marketing in the United States no existing stocks provisions are necessary for them to sell and distribute their product(s).

Registrants are prohibited from selling or distributing products listed in Table 1 of Unit II., except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

E. End-Use Products Listed in Table 2 of Unit II.

The registrants may continue to sell and distribute existing stocks of products listed in Table 2 of Unit II. until December 31, 2016. Thereafter, as of January 1, 2017, registrants are prohibited from selling or distributing products listed in Table 2 of Unit II., except for export in accordance with FIFRA section 17, or proper disposal. Persons other than registrants are allowed to sell, distribute, or use existing stocks of product listed in Table 2 of Unit II. until existing stocks are exhausted, provided that such sale, distribution, or use is consistent with the terms of the previously approved labeling on, or that accompanied, the canceled product.

List of Subjects

Environmental protection, Administrative practice and procedure, Pesticides and pests.

Dated: July 23, 2014.
Richard P. Keigwin, Jr.,
Director, Pesticide Re-Evaluation Division, Office of Pesticide Programs.

[FR Doc. 2014-18222 Filed 8-5-14; 8:45 am]

BILLING CODE 6560-50-P